COMMITTEE FOR PURCHASE FROM PEOPLE WHO ARE BLIND OR SEVERELY DISABLED

Procurement List Additions and Deletions

AGENCY: Committee for Purchase From People Who Are Blind or Severely Disabled.

ACTION: Additions to and Deletions from the Procurement List.

SUMMARY: This action adds a product and a service to the Procurement List that will be furnished by nonprofit agencies employing persons who are blind or have other severe disabilities, and deletes products and services from the Procurement List previously furnished by such agencies.

DATES: Effective Date: October 18, 2010.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail: CMTEFedReg@AbilityOne.gov.

SUPPLEMENTARY INFORMATION:

Additions

On 7/16/2010 (75 FR 41451) and 7/23/2010 (75 FR 43153-43155), the Committee for Purchase From People Who Are Blind or Severely Disabled published notices of proposed additions to the Procurement List.

After consideration of the material presented to it concerning capability of qualified nonprofit agencies to provide a product and a service and impact of the additions on the current or most recent contractors, the Committee has determined that the product and service listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product and service to the Government.

2. The action will result in authorizing small entities to furnish the product and service to the Government.

3. There are no known regulatory alternatives which would accomplish the objectives of the Javits-Wagner-O'Day Act (41 U.S.C. 46-48c) in connection with the product and service proposed for addition to the Procurement List.

End of Certification

Accordingly, the following product and service are added to the Procurement List:

Product

NSN: MR 414—Glove, Latex, Pink.

NPA: New York City Industries for the Blind, Inc., Brooklyn, NY.

Contracting Activity: Military Resale-Defense Commissary Agency, Fort Lee, VA.

Coverage: C-List for the requirement of military commissaries and exchanges as aggregated by the Defense Commissary Agency.

Service

Service Type/Location: Contact Center Service, Office of the Comptroller of the Currency, Washington, DC.

NPA: Peckham Vocational Industries, Inc., Lansing, MI.

Contracting Activity: Dept. of the Treasury, Office of the Comptroller of the Currency, Washington, DC.

Deletions

On 6/25/2010 (75 FR 36363-36371); 7/9/2010 (75 FR 39497-39499); and 7/16/2010 (75 FR 41451), the Committee for Purchase From People Who Are Blind or Severely Disabled published notices of proposed deletions from the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

NSN: 7510-01-484-0011—Paper Holder & Micro Note Holder.

NPA: The Lighthouse for the Blind, Inc. (Seattle Lighthouse), Seattle, WA.

Contracting Activity: GSA/Federal Acquisition Service, New York, NY.

NSN: 8415-00-205-3895—Apron, Construction Workers.

NPA: Blind Industries & Services of Maryland, Baltimore, MD.

Contracting Activity: GSA/Federal Acquisition Service, Fort Worth, TX.

Services

Service Type/Location: Facilities Maintenance, NASA Dryden Flight Research Center, Edwards, CA.

NPA: PRIDE Industries, Roseville, CA.

Contracting Activity: National Aeronautics and Space Administration, NASA Headquarters, Washington, DC.

Service Type/Location; Janitorial/Custodial Service, Maritime Administration: Crossways Commerce Center, 1545 Crossways Boulevard, Chesapeake, VA.

NPA: Portco, Inc., Portsmouth, VA.

Contracting Activity: GSA/PBS/R03 Richmond FO, Richmond, VA.

Barry S. Lineback.
Director, Business Operations.

[FR Doc. 2010-23273 Filed 9-16-10; 8:45 am]

BILLING CODE 6353-01-P